DEPARTMENT OF TRANSPORTATION

Federal Highway Administration

23 CFR Part 460

RIN 2125-AF42

Public Road Mileage for Apportionment of Highway Safety Funds; Correction

AGENCY: Federal Highway Administration (FHWA), DOT.

ACTION: Correcting amendment.

SUMMARY: This rule makes a technical correction to the regulations found at 23 CFR 460.2(e). The amendment contained herein makes no substantive change to the FHWA regulations, policies, or procedures. This rule updates the language of a regulatory definition to be consistent with the statutory definition for the Highway Safety Program.

DATES: This rule is effective April 8, 2011.

FOR FURTHER INFORMATION CONTACT: Ron Erickson, Office of Highway Policy Information, (202) 366-5033, Ron.Erickson@dot.gov, or Michael Harkins, Office of the Chief Counsel, (202) 366-4928, Michael.Harkins@dot.gov, 1200 New Jersey Avenue, SE., Washington, DC 20590. Office hours for the FHWA are from 8 a.m. to 4:30 p.m., e.t., Monday through Friday, except Federal holidays.

SUPPLEMENTARY INFORMATION:

Electronic Access

An electronic copy of this document may be downloaded from the Office of the Federal Register's home page at: http://www.archives.gov and the Government Printing Office's Web page at: http://www.gpoaccess.gov/nara.

Background

This rule makes a technical correction to the regulations that govern the public road mileage for apportionment of highway safety funds. These regulations, found at 23 CFR part 460, were drafted in 1975. The definition of “State” found at 23 CFR 460.2(e) was intended to mirror the definition of “State” for the Highway Safety Program contained in 23 U.S.C. 401. Later, the Surface Transportation and Uniform Relocation Assistance Act of 1987 (Pub. L. 100-17, Apr. 2, 1987, 101 Stat. 132) substituted “American Samoa, and the Commonwealth of the Northern Mariana Islands” for “and American Samoa” in the language found at 23 U.S.C. 401. The regulations were not updated to reflect the change to the statutory definition. While the FHWA has used the definition found at 23 U.S.C. 401, the omission of the Commonwealth of the Northern Mariana Islands could cause confusion. As such, the FHWA is updating the definition of “State” at 460.2(e) to reflect the statutory language of 23 U.S.C. 401.

Rulemaking Analyses and Notice

Under the Administrative Procedure Act (5 U.S.C. 553(b)), an agency may waive the normal notice and comment requirements if it finds, for good cause, that they are impracticable, unnecessary, or contrary to the public interest. The FHWA finds that notice and comment for this rule is unnecessary and contrary to the public interest because it will have no substantive impact, is technical in nature, and relates only to management, organization, procedure, and practice. The FHWA does not anticipate receiving meaningful comments on it. States, local governments, and their consultants rely upon the regulations corrected by this action. This correction will reduce confusion for these entities and should not be unnecessarily delayed. Accordingly, for the reasons listed above, the agencies find good cause under 5 U.S.C. 553(b)(3)(B) to waive notice and opportunity for comment.

Executive Order 12866 (Regulatory Planning and Review) and DOT Regulatory Policies and Procedures

The FHWA has determined that this action is not a significant regulatory action within the meaning of Executive Order 12866 or significant within the meaning of U.S. Department of Transportation regulatory policies and procedures. It is anticipated that the economic impact of this rulemaking will be minimal. This rule only entails minor corrections that will not in any way alter the regulatory effect of 23 CFR part 460. Thus, this final rule will not adversely affect, in a material way, any sector of the economy. In addition, these changes will not interfere with any action taken or planned by another agency and will not materially alter the budgetary impact of any entitlements, grants, user fees, or loan programs.

Regulatory Flexibility Act

In compliance with the Regulatory Flexibility Act (Pub. L. 96-354, 5 U.S.C. 60l-612) the FHWA has evaluated the effects of this action on small entities and have determined that the action will not have a significant economic impact on a substantial number of small entities. This final rule will not make any substantive changes to our regulations or in the way that our regulations affect small entities; it merely corrects technical errors. For this reason, the FHWA certifies that this action will not have a significant economic impact on a substantial number of small entities.

Unfunded Mandates Reform Act of 1995

This rule does not impose unfunded mandates as defined by the Unfunded Mandates Reform Act of 1995 (Pub. L. 104-4, March 22, 1995, 109 Stat. 48). This rule does not impose any requirements on State, local, or tribal governments, or the private sector and, thus, will not require those entities to expend any funds.

Executive Order 13132 (Federalism)

This action has been analyzed in accordance with the principles and criteria contained in Executive Order 13132, and the FHWA has determined that this action does not have sufficient federalism implications to warrant the preparation of a federalism assessment. The FHWA has also determined that this action does not preempt any State law or State regulation or affect the States' ability to discharge traditional State governmental functions.

Executive Order 12372 (Intergovernmental Review)

The regulations implementing Executive Order 12372 regarding intergovernmental consultation on Federal programs and activities apply to these programs.

Paperwork Reduction Act

This action does not create any new information collection requirements for which a Paperwork Reduction Act submission to the Office of Management and Budget would be needed under the Paperwork Reduction Act of 1995, 44 U.S.C. 3501-3520.

National Environmental Policy Act

The FHWA has analyzed this action for the purpose of the National Environmental Policy Act of 1969 (42 U.S.C. 4321-4347) and has determined that this action will not have any effect on the quality of the environment.

Executive Order 13175 (Tribal Consultation)

The FHWA has analyzed this action under Executive Order 13175, dated November 6, 2000, and concluded that this rule will not have substantial direct effects on one or more Indian tribes; will not impose substantial direct compliance costs on Indian tribal government; and will not preempt tribal law. There are no requirements set forth in this rule that directly affect one or more Indian tribes. Therefore, a tribal summary impact statement is not required.

Executive Order 12988 (Civil Justice Reform)

This rule meets applicable standards in sections 3(a) and 3(b)(2) of Executive Order 12988, Civil Justice Reform, to minimize litigation, eliminate ambiguity, and reduce burden.

Executive Order 13045 (Protection of Children)

Under Executive Order 13045, Protection of Children from Environmental Health and Safety Risks, this final rule is not economically significant and does not involve an environmental risk to health and safety that may disproportionally affect children.

Executive Order 12630 (Taking of Private Property)

This final rule will not effect a taking of private property or otherwise have taking implications under Executive Order 12630, Governmental Actions and Interference with Constitutionally Protected Property Rights.

Executive Order 13211 (Energy Effects)

This final rule has been analyzed under Executive Order 13211, Actions Concerning Regulations That Significantly Affect Energy Supply, Distribution, or Use. The FHWA has determined that it is not a significant energy action under that order because it is not a significant regulatory action under Executive Order 12866 and this final rule is not likely to have a significant adverse effect on the supply, distribution, or use of energy.

Regulation Identification Number

A regulation identification number (RIN) is assigned to each regulatory action listed in the Unified Agenda of Federal Regulations. The Regulatory Information Service Center publishes the Unified Agenda in April and October of each year. The RINs contained in the heading of this document can be used to cross reference this action with the Unified Agenda.

List of Subjects in 23 CFR Part 460

Grant programs—transportation, Highway safety, Reporting and recordkeeping requirements.

Issued on: February 18, 2011.
Victor M. Mendez,
Administrator.

In consideration of the foregoing, 23 CFR part 460 is amended as set forth below.

PART 460—PUBLIC ROAD MILEAGE FOR APPORTIONMENT OF HIGHWAY SAFETY FUNDS

1. The authority citation for part 460 continues to read as follows:

Authority: 23 U.S.C. 315, 402(c); 49 CFR 1.48.

2. Amend § 460.2 by revising paragraph (e) to read as follows:

§ 460.2 Definitions.

* * * * *

(e) State means any one of the 50 States, the District of Columbia, Puerto Rico, the Virgin Islands, Guam, American Samoa, and the Commonwealth of the Northern Mariana Islands. For the purpose of the application of 23 U.S.C. 402 on Indian reservations, State and Governor of a State include the Secretary of the Interior.

[FR Doc. 2011-5410 Filed 3-8-11; 8:45 am]

BILLING CODE 4910-22-P